NUCLEAR REGULATORY COMMISSION

Advisory Committee on Reactor Safeguards, Subcommittee Meeting on Thermal-Hydraulic Phenomena, Revisions

The schedule for the August 21-23, 2001 ACRS Subcommittee meeting on Thermal-Hydraulic Phenomena to be held in Room T-2B3, at 11545 Rockville Pike, Rockville, Maryland, has been revised. Specifically, the session scheduled for Tuesday, August 21, to review the license amendment request of the Nuclear Management Company, LLC, for a core power uprate for the Duane Arnold Energy Center has been postponed due to the unavailability of necessary documentation. The meeting will now begin on August 22. The meeting schedule is also revised to include a closed session to public attendance on August 23, 2001, to discuss Electric Power Research Institute (EPRI) proprietary information per 5 U.S.C. 552b(c)(4). Notice of this meeting was published in the Federal Register on Monday, July 30, 2001 (66 FR 39373). All other items pertaining to this meeting remain the same as previously published.

FOR FURTHER INFORMATION CONTACT: Mr. Paul A. Boehnert, cognizant ACRS staff engineer, (telephone 301-415-8065) between 7:30 a.m. and 4:30 p.m. (EDT).

Dated: August 9, 2001.
Sher Bahadur,
Associate Director for Technical Support.

[FR Doc. 01-20531 Filed 8-14-01; 8:45 am]

BILLING CODE 7590-01-P